DEPARTMENT OF HEALTH AND HUMAN SERVICES

Centers for Disease Control and Prevention

[30Day-25-1061]

Agency Forms Undergoing Paperwork Reduction Act Review

In accordance with the Paperwork Reduction Act of 1995, the Centers for Disease Control and Prevention (CDC) has submitted the information collection request titled Behavioral Risk Factor Surveillance System (BRFSS), to the Office of Management and Budget (OMB) for review and approval. CDC previously published a Proposed Data Collection Submitted for Public Comment and Recommendations notice on August 9, 2024, to obtain comments from the public and affected agencies. There were four public comments with two being substantive, related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Behavioral Risk Factor Surveillance System (BRFSS) (OMB Control No. 0920-1061, Exp. 12/31/2024)—Revision—National Center for Chronic Disease Prevention and Health Promotion (NCCDPHP), Centers for Disease Control and Prevention (CDC).

Background and Brief Description

CDC is requesting OMB approval to revise information collection for the Behavioral Risk Factor Surveillance System (BRFSS) for the period of 2025-2027. The BRFSS is a nationwide system of cross-sectional surveys using random digit dialed (RDD) samples administered by health departments in states, territories, and the District of Columbia (collectively referred to here as states) in collaboration with the CDC. Traditionally subject recruitment and interview have been conducted by telephone. In 2025-2027, the BRFSS will introduce the option to allow participants to voluntarily complete online surveys, after telephone recruitment. The BRFSS produces state-level information primarily on health risk behaviors, health conditions, and preventive health practices that are associated with chronic diseases, infectious diseases, and injury. Designed to meet the data needs of individual states and territories, the CDC sponsors the BRFSS information collection project under a cooperative agreement with states and territories. Under this partnership, BRFSS state coordinators determine questionnaire content with technical and methodological assistance provided by CDC. For most states and territories, the BRFSS provides the only sources of data amenable to state and local level health and health risk indicator uses. Over time, it has also developed into an important data collection system that federal agencies rely on for state and local health information and to track national health objectives such as Healthy People.

CDC bases the BRFSS questionnaire on modular design principles to accommodate a variety of state-specific needs within a common framework. All participating states are required to administer a standardized core questionnaire, which provides a set of shared health indicators for all BRFSS partners. The BRFSS core questionnaire consists of fixed core, rotating core, and emerging core questions. Fixed core questions are asked every year. Rotating core questions cycle on and off the core questionnaire in two- or three-year cycles, depending on the question. Emerging core questions are included in the core questionnaire as needed to collect data on urgent or emerging health topics such as infectious disease. In addition, the BRFSS includes a series of optional modules on a variety of topics. In off years, when the rotating questions are not included in the core questionnaire, they are offered to states as optional modules. This framework allows each state to produce a customized BRFSS survey by appending selected optional modules to the core survey. States may select which, if any, optional modules to administer. As needed, CDC provides technical and methodological assistance to state BRFSS coordinators in the construction of their state-specific surveys. Each state administers its BRFSS questionnaire throughout the calendar year.

CDC periodically updates the BRFSS core survey and optional modules. The purpose of this Revision request is to continue with the following topics in the questionnaires: Traumatic brain injury, medical adherence, cardiovascular health, veterans' health, positive childhood experiences, and the use of newly available tobacco products. In addition, this request seeks approval for reinstating topics which have been included in BRFSS in the past, dependent upon state interest and funding.

Participation is voluntary and there is no cost to participate. The average time burden per response will be no more than 22 minutes by phone and 60 minutes by mail. The total time burden across all respondents will be approximately 274,632 hours. OMB approval is requested for three years.

Estimated Annualized Burden Hours
Type of respondents | Form name | Number of respondents | Number of responses per respondent | Average burden per response (in hours)
U.S. General Population | Landline Screener | 173,000 | 1 | 1/60
| Cell Phone Screener | 694,000 | 1 | 1/60
| Field Test Screener | 900 | 1 | 1/60
Annual Survey Respondents (Adults >18 Years) | BRFSS Core Survey by Phone Interview | 480,000 | 1 | 15/60
| BRFSS Optional Modules by Phone Interview | 440,000 | 1 | 15/60
| BRFSS Core Survey by Online Survey | 100,000 | 1 | 10/60
| BRFSS Optional Modules by Online Survey | 80,000 | 1 | 10/60
Field Test Respondents (Adults >18 Years) | Field Test Survey by Phone Interview | 500 | 1 | 20/60

Jeffrey M. Zirger,
Lead, Information Collection Review Office, Office of Public Health Ethics and Regulations, Office of Science, Centers for Disease Control and Prevention.

[FR Doc. 2024-28324 Filed 12-2-24; 8:45 am]

BILLING CODE 4163-18-P